DEPARTMENT OF HOUSING AND URBAN DEVELOPMENT

[Docket No. FR-4557-N-23]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Mr. Jeff Holste, Military Programs, U.S. Army Corps of Engineers, Installation Support Center, Planning & Real Property Branch, Attn: CEMP-IP, 7701 Telegraph Road, Alexandria, VA 22315-3862; (703) 428-6318; (These are not toll-free numbers).

Dated: June 1, 2000.
Fred Karnas, Jr.,
Deputy Assistant Secretary for Special Needs Assistance Programs.

Title V, Federal Surplus Property Program; Federal Register Report for 6/9/00

Suitable/Available Properties:

Buildings (by State)

Alaska

Bldg. 760

Fort Richardson

Ft. Richardson Co: AK 95505-6500

Landholding Agency: Army

Property Number: 21200020156

Status: Unutilized

Comment: 24,896 sq. ft., concrete, most recent use—veh. maint., off-site use only

Bldg. 08100

Fort Richardson

Ft. Richardson Co: AK 99505-6500

Landholding Agency: Army

Property Number: 21200020157

Status: Unutilized

Comment: 4688 sq. ft., concrete, most recent use—hazare bldg., off-site use only

Bldgs. 09100, 09104-09106

Fort Richardson

Ft. Richardson Co: AK 99505-6500

Landholding Agency: Army

Property Number: 21200020158

Status: Unutilized

Comment: various sq. ft., concrete, most recent use—hazard bldg., off-site use only

5 Bldgs.

Fort Richardson

09108, 09110-09112, 09114

Ft. Richardson Co: AK 99505-6500

Property Number: 21200020159

Status: Unutilized

Comment: various sq. ft., concrete, most recent use—hazard bldg., off-site use only

Bldgs. 09128, 09129

Fort Richardson

Ft. Richardson Co: AK 99505-6500

Landholding Agency: Army

Property Number: 21200020160

Status: Unutilized

Comment: various sq. ft., concrete, most recent use—hazard bldg., off-site use only

Bldgs. 09151, 09155, 09156

Fort Richardson

Ft. Richardson Co: AK 99505-6500

Landholding Agency: Army

Property Number: 21200020161

Status: Unutilized

Comment: various sq. ft., concrete, most recent use—hazard bldg., off-site use only

Bldg. 09158

Fort Richardson

Ft. Richardson Co: AK 99505-6500

Landholding Agency: Army

Property Number: 21200020162

Status: Unutilized

Comment: 672 sq. ft., most recent use—storage shed, off-site use only

Bldgs. 09160-09162

Fort Richardson

Ft. Richardson Co: AK 99505-6500

Landholding Agency: Army

Property Number: 21200020163

Status: Unutilized

Comment: 11520 sq. ft., concrete, most recent use—NCO-ENL FH, off-site use only

Bldgs. 09164, 09165 Fort Richardson

Ft. Richardson Co: AK 99505-6500

Landholding Agency: Army

Property Number: 21200020164

Status: Unutilized

Comment: 2304 & 2880 sq. ft., most recent use—storage, off-site use only

Bldg. 10100

Fort Richardson

Ft. Richardson Co: AK 99505-6500

Landholding Agency: Army

Property Number: 21200020165

Status: Unutilized

Comment: 4688 sq. ft., concrete, most recent use—hazard bldg., off-site use only

Arizona

34 Bldgs.

Fort Huachuca

62001-62022, 64001-64012

Sierra Vista Co: Cochise AZ 85635-

Landholding Agency: Army

Property Number: 21200020166

Status: Unutilized

Comment: 658 and 587 sq. ft., presence of asbestos/lead paint, most recent use—one bedroom family housing, off-site use only

California

Bldgs. 204-207, 517

Presidio of Monterey

Monterey Co: CA 93944-5006

Landholding Agency: Army

Property Number: 21200020167

Status: Unutilized

Comment: 4780 and 10950 sq. ft., presence of asbestos/lead paint, most recent use—classroom/admin/storage, off-site use only

Colorado

Bldg. S-6223

Fort Carson

Ft. Carson Co: El Paso CO 80913-

Landholding Agency: Army

Property Number: 21200020168

Status: Unutilized

Comment: 9574 sq. ft., concrete block, presence of asbestos/lead paint, most recent use—personnel bldg., off-site use only

Bldg. S-6270

Fort Carson

Ft. Carson Co: El Paso CO 80913-

Landholding Agency: Army

Property Number: 21200020169

Status: Unutilized

Comment: 19,067 sq. ft., concrete block, presence of asbestos/lead paint, most recent use—warehouse, off-site use only

Bldg. S-6276

Fort Carson

Ft. Carson Co: El Paso CO 80913-

Landholding Agency: Army

Property Number: 21200020170

Status: Unutilized

Comment: 2522 sq. ft., concrete block, presence of asbestos/lead paint, most recent use—maint. shop, off-site use only

Georgia

Bldg. 2214

Fort Gordon

Ft. Gordon Co: Richmond GA 30905-

Landholding Agency: Army

Property Number: 21200020171

Status: Unutilized

Comment: 13,508 sq. ft., possible asbestos/lead paint, most recent use—storage/admin., off-site use only

Bldg. 2233

Fort Gordon

Ft. Gordon Co: Richmond GA 30905-

Landholding Agency: Army

Property Number: 21200020172

Status: Unutilized

Comment: 1720 sq. ft., possible asbestos/lead paint, most recent use—admin., off-site use only

Hawaii

6 Bldgs.

Schofield Barracks

Wahiawa Co: HI 96786-

Location: P-3632, 3633, 3644, 3703, 3801, 3806

Landholding Agency: Army

Property Number: 21200020173

Status: Unutilized

Comment: 4 units/each bldg., family housing, termite damaged, off-site use only

10 Bldgs.

Schofield Barracks

Wahiawa Co: HI 96786-

Location: P-3444, 4312, 4322, 4336, 4341, 4412, 4416, 4710, 5016, 4915

Landholding Agency: Army

Property Number: 21200020174

Status: Unutilized

Comment: 5 units/each bldg., family housing, termite damaged, off-site use only

Bldgs. P4454, 4552

Schofield Barracks

Wahiawa Co: HI 96786-

Landholding Agency: Army

Property Number: 21200020175

Status: Unutilized

Comment: 8 units/each bldg., family housing, termite-damaged, roof leaks, off-site use only

Bldg. P4460

Schofield Barracks

Wahiawa Co: HI 96786-

Landholding Agency: Army

Property Number: 21200020176

Status: Unutilized

Comment: 4 units, family housing, termite damaged, off-site use only

Illinois

Bldg. 137A

Sheridan Army Rsv Complex

Sheridan Co: IL 60037-

Landholding Agency: Army

Property Number: 21200020177

Status: Unutilized

Comment: 120 sq. ft., storage bldg., off-site use only

Bldgs. 255-261

Sheridan Army Rsv Complex

Sheridan Co: IL 60037

Landholding Agency: Army

Property Number: 21200020178

Status: Unutilized

Comment: 960 sq. ft., steel storage bldgs., off-site use only

Kansas

Bldg. T-901

Fort Riley

Ft. Riley Co: Geary KS 66442-

Landholding Agency: Army

Property Number: 21200020179

Status: Unutilized

Comment: 52 sq. ft., poor, most recent use—storage, off-site use only

Bldg. P-3010

Fort Riley

Ft. Riley Co: Geary KS 66442-

Landholding Agency: Army

Property Number: 21200020180

Status: Unutilized

Comment: 144 sq. ft., poor, most recent use—storage, off-site use only

Bldgs. S-7705, S-7706

Fort Riley

Ft. Riley Co: Geary KS 66442-

Landholding Agency: Army

Property Number: 21200020181

Status: Unutilized

Comment: 648 sq. ft., poor, presence of asbestos, most recent use—storage, off-site use only

Bldgs. P-7708, P-7709

Fort Riley

Ft. Riley Co: Geary KS 66442-

Landholding Agency: Army

Property Number: 21200020182

Status: Unutilized

Comment: 206 and 1435 sq. ft., poor, most recent use—storage, off-site use only

Bldg. P-9007

Fort Riley

Ft. Riley Co: Geary KS 66442-

Landholding Agency: Army

Property Number: 21200020183

Status: Unutilized

Comment: 540 sq. ft., poor, off-site use only

Bldg. T-9017

Fort Riley

Ft. Riley Co: Geary KS 66442-

Landholding Agency: Army

Property Number: 21200020184

Status: Unutilized

Comment: 128 sq. ft., poor, off-site use only

Bldg. T-9088

Fort Riley

Ft. Riley Co: Geary KS 66442-

Landholding Agency: Army

Property Number: 21200020185

Status: Unutilized

Comment: 246 sq. ft., poor, off-site use only

Maryland

Bldg. 176

Fort George G. Meade

Ft. Meade Co: Anne Arundel MD 20755-5115

Landholding Agency: Army

Property Number: 21200020187

Status: Unutilized

Comment: 2441 sq. ft., presence of asbestos/lead paint, most recent use—storage, off-site use only

Bldg. 618

Fort George G. Meade

Ft. Meade Co: Anne Arundel MD 20755-5115

Landholding Agency: Army

Property Number: 21200020188

Status: Unutilized

Comment: 12,713 sq. ft., presence of asbestos/lead paint, most recent use—admin., off-site use only

Bldgs. E5722, E5730, E5732

Aberdeen Proving Ground

Aberdeen Co: Harford MD 21005-5001

Landholding Agency: Army

Property Number: 21200020189

Status: Unutilized

Comment: 4070 sq. ft., most recent use—storage, off-site use only

Massachusetts

Bldg. P-3713

Devens RFTA

Devens Co: MA 01432

Landholding Agency: Army

Property Number: 21200020186

Status: Unutilized

Comment: 256,760 sq. ft., needs renovation—estimated cost in excess of $5 million, most recent use—veh. maint., presence of asbestos

New Jersey

Bldg. 353

Armament Research

Picatinny Arsenal Co: Morris NJ 07806-5000

Landholding Agency: Army

Property Number: 21200020191

Status: Unutilized

Comment: 24,800 sq. ft., most recent use—physics lab, off-site use only

Bldg. 1530

Armament Research

Picatinny Arsenal Co: Morris NJ 07806-5000

Landholding Agency: Army

Property Number: 21200020192

Status: Unutilized

Comment: 10,550 sq. ft., most recent use—electronic lab, off-site use only

Bldg. 3050

Armament Research

Picatinny Aresenal Co: Morris NJ 07806-5000

Landholding Agency: Army

Property Number: 21200020193

Status: Unutilized

Comment: 10,550 sq. ft., most recent use—barracks, off-site use only

New York

Bldgs. T00021, T00022, T00024

Fort Drum

Ft. Drum Co: Jefferson NY 13602-

Landholding Agency: Army

Property Number: 21200020194

Status: Unutilized

Comment: 4720 sq. ft., needs rehab, most recent use—aces facility, off-site use only

Bldg. T00214

Fort Drum

Ft. Drum Co: Jefferson NY 13602-

Landholding Agency: Army

Property Number: 21200020195

Status: Unutilized

Comment: 3663 sq. ft., needs rehab, most recent use—scv outlet, off-site use only

Bldg. T-6002

Fort Drum

Ft. Drum Co: Jefferson NY 13602-

Landholding Agency: Army

Property Number: 21200020196

Status: Unutilized

Comment: 31212 sq. ft., needs rehab, most recent use—veh. storage, off-site use only

Ohio

Quarters 104

Defense Supply Center

Columbus Co: Franklin OH 43216-5000

Landholding Agency: Army

Property Number: 21200020197

Status: Unutilized

Comment: 1917 sq. ft., poor condition, presence of lead paint, most recent use—family housing, off-site use only

Quarters 106

Defense Supply Center

Columbus Co: Franklin OH 43216-5000

Landholding Agency: Army

Property Number 21200020198

Status: Unutilized

Comment: 3650 sq. ft., poor condition, presence of lead paint, most recent use—family housing, off-site use only

Quarters 109

Defense Supply Center

Columbus Co: Franklin OH 43216-5000

Landholding Agency: Army

Property Number: 21200020199

Status: Unutilized

Comment: 1642 sq. ft., poor condition, presence of lead paint, most recent use—family housing, off-site use only

Quarters 142

Defense Supply Center

Columbus Co: Franklin OH 43216-5000

Landholding Agency: Army

Property Number: 21200020200

Status: Unutilized

Comment: 3200 sq. ft., poor condition, presence of lead paint, most recent use—family housing, off-site use only

Quarters 133A, 133B

Defense Supply Center

Columbus Co: Franklin OH 43216-5000

Landholding Agency: Army

Property Number: 21200020201

Status: Unutilized

Comment: 4752 sq. ft., poor condition, presence of lead paint, most recent use—family housing, off-site use only

Texas

Bldg. P-2375A

Fort Sam Houston

San Antonio Co: Bexar TX 78234-5000

Landholding Agency: Army

Property Number: 21200020202

Status: Unutilized

Comment: 108 sq. ft., presence of lead paint, most recent use—storage, off-site use only

Bldg. T-5004

Fort Sam Houston

San Antonio Co: Bexar TX 78234-5000

Landholding Agency: Army

Property Number: 21200020203

Status: Unutilized

Comment: 4489 sq. ft., presence of asbestos/lead paint, most recent use—storage, off-site use only

Bldg. T-5005

Fort Sam Houston

San Antonio Co: Bexar TX 78234-5000

Landholding Agency: Army

Property Number: 21200020204

Status: Unutilized

Comment: 4320 sq. ft., presence of asbestos/lead paint, most recent use—storage, off-site use only

Bldgs. T-5101, T-5102

Fort Sam Houston

San Antonio Co: Bexar TX 78234-5000

Landholding Agency: Army

Property Number: 21200020205

Status: Unutilized

Comment: 18,792 sq. ft., presence of asbestos/lead paint, most recent use—storage, off-site use only

Bldg. 92043

Fort Hood

Ft. Hood Co: Bell TX 76544-

Landholding Agency: Army

Property Number: 21200020206

Status: Unutilized

Comment: 450 sq. ft., most recent use—storage, off-site use only

Bldg. 92044

Fort Hood

Ft. Hood Co: Bell TX 76544-

Landholding Agency: Army

Property Number: 21200020207

Status: Unutilized

Comment: 1920 sq. ft., most recent use—admin., off-site use only

Bldg. 92045

Fort Hood

Ft. Hood Co: Bell TX 76544-

Landholding Agency: Army

Property Number: 21200020208

Status: Unutilized

Comment: 2108 sq. ft., most recent use—maint., off-site use only

Virginia

Bldg. TT0114

Fort A.P. Hill

Bowling Green Co: Caroline VA 22427-

Landholding Agency: Army

Property Number: 21200020209

Status: Unutilized

Comment: 1440 sq. ft., needs rehab, most recent use—admin., off-site use only

Bldg. TT0117

Fort A.P. Hill

Bowling Green Co: Caroline VA 22427-

Landholding Agency: Army

Property Number: 21200020210

Status: Unutilized

Comment: 1920 sq. ft., needs rehab, most recent use—transient UOQ, off-site use only

Bldg. TT0118

Fort A.P. Hill

Bowling Green Co: Caroline VA 22427-

Landholding Agency: Army

Property Number: 21200020211

Status: Unutilized

Comment: 2400 sq. ft., needs rehab, most recent use—transient UOQ, off-site use only

Bldg. TT0130

Fort A.P. Hill

Bowling Green Co: Caroline VA 22427-

Landholding Agency: Army

Property Number: 21200020213

Status: Unutilized

Comment: 861 sq. ft., needs rehab, presence of asbestos, most recent use—transient UOQ, off-site use only

Bldgs. TT0131

Fort A.P. Hill

Bowling Green Co: Caroline VA 22427-

Landholding Agency: Army

Property Number: 21200020214

Status: Unutilized

Comment: 861 sq. ft., needs rehab, presence of asbestos, most recent use—transient UOQ, off-site use only

Bldg. TT0132

Fort A. P. Hill

Bowling Green Co: Caroline VA 22427-

Landholding Agency: Army

Property Number: 21200020215

Status: Unutilized

Comment: 800 sq. ft., needs rehab, presence of asbestos, most recent use—transient UOQ, off-site use only

Bldg. TT0133

Fort A. P. Hill

Bowling Green Co: Caroline VA 22427-

Landholding Agency: Army

Property Number: 21200020216

Status: Unutilized

Comment: 800 sq. ft., needs rehab, presence of asbestos, most recent use—transient UOQ, off-site use only

Bldg. TT0139

Fort A. P. Hill

Bowling Green Co: Caroline VA 22427-

Landholding Agency: Army

Property Number: 21200020217

Status: Unutilized

Comment: 800 sq. ft., needs rehab, presence of asbestos, most recent use—storage, off-site use only

Bldg. TT0158

Fort A. P. Hill

Bowling Green Co: Caroline VA 22427-

Landholding Agency: Army

Property Number: 21200020218

Status: Unutilized

Comment: 361 sq. ft., needs rehab, presence of asbestos, most recent use—storage, off-site use only

Bldg. TT0163

Fort A. P. Hill

Bowling Green Co: Caroline VA 22427-

Landholding Agency: Army

Property Number: 21200020219

Status: Unutilized

Comment: 1920 sq. ft., needs rehab, presence of asbestos, most recent use—admin., off-site use only

Bldg. TT0206

Fort A. P. Hill

Bowling Green Co: Caroline VA 22427-

Landholding Agency: Army

Property Number: 21200020220

Status: Unutilized

Comment: 792 sq. ft., needs rehab, presence of asbestos, most recent use—garage, off-site use only

Bldg. T00167

Fort A.P. Hill

Bowling Green Co: Caroline VA 22427-

Landholding Agency: Army

Property Number: 21200020221

Status: Unutilized

Comment: 96 sq. ft., needs rehab, presence of asbestos, most recent use—storage, off-site use only

Bldg. P01530

Fort A.P. Hill

Bowling Green Co: Caroline VA 22427-

Landholding Agency: Army

Property Number: 21200020222

Status: Unutilized

Comment: 112 sq. ft., needs rehab, presence of asbestos, most recent use—storage, off-site use only

Bldg. 218

Fort Eustis

Ft. Eustis Co: VA 23604-

Landholding Agency: Army

Property Number: 21200020223

Status: Unutilized

Comment: 7680 sq. ft., most recent use—storage, off-site use only

Bldg. 1512

Fort Eustis

Ft. Eustis Co: VA 23604-

Landholding Agency: Army

Property Number: 21200020224

Status: Unutilized

Comment: 2971 sq. ft., presence of asbestos, most recent use—dining facility, off-site use only

Bldg. 1914

Fort Eustis

Ft. Eustis Co: VA 23604-

Landholding Agency: Army

Property Number: 21200020225

Status: Unutilized

Comment: 2360 sq. ft., presence of asbestos, most recent use—admin., off-site use only

Suitable/Available Properties:

Land (by State)

Missouri

Land

Fort Leonard Wood

Ft. Leonard Wood Co: Pulaski MO 65473-8994

Location: East ½ of Section 14, Township 35

Landholding Agency: Army

Property Number: 21200020190

Status: Underutilized

Comment: Approx. 70 acres, rolling hills w/50% of area covered w/trees, env. documents in progress

[FR Doc. 00-14223 Filed 6-8-00; 8:45 am]

BILLING CODE 4210-29-M